DEPARTMENT OF COMMERCE

Economic Development Administration

Meeting

AGENCY: Economic Development Administration, Commerce.

ACTION: Notice.

SUMMARY: Announcement of New Members and the Re-Appointment of one member to the Economic Development Administration's (EDA) Performance Review Board.

FOR FURTHER INFORMATION CONTACT: LaVerne H. Hawkins, Department of Commerce, Office of Human Resources, at (202)-482-2537, Room 7412, Washington, DC 20230. The Economic Development Administration's Performance Review Board members are:

Mary Pleffner, Chair, Chief Financial Officer.

Gerald R. Lucas, Director, Office of Strategic Resources, Office of the Secretary.

James L. Taylor, Deputy Chief Financial Officer, Office of the Secretary.

Suzette Kern, Associate Director for Management, and Chief Financial Officer.

Bill Day, EDA Regional Director.

LaVerne H. Hawkins, Executive Secretary, ITA, Office of Human Resources Management. (202) 482-2537.

Dated: October 17, 2002.
Darlene F. Haywood,
Acting Director, Office of Human Resources Management.

[FR Doc. 02-27426 Filed 10-28-02; 8:45 am]

BILLING CODE 3510-24-U